DEPARTMENT OF THE TREASURY

Internal Revenue Service

Members of Senior Executive Service Performance Review Boards

AGENCY: Internal Revenue Service (IRS), Department of the Treasury (Treasury).

ACTION: Notice.

SUMMARY: The purpose of this notice is to publish the names of those IRS employees who will serve as members on IRS's Fiscal Year 2015 Senior Executive Service (SES) Performance Review Boards.

DATES: This notice is effective September 1, 2015.

FOR FURTHER INFORMATION CONTACT: Cheryl Huffman, IRS, 250 Murall Drive, Kearneysville, WV 25430, (304) 264-5572.

SUPPLEMENTARY INFORMATION: Pursuant to 5 U.S.C. 4314(c)(4), this notice announces the appointment of members to the IRS's SES Performance Review Boards. The names and titles of the executives serving on the boards are as follows:

John M. Dalrymple, Deputy Commissioner for Services and Enforcement (DCSE)

Jeffrey J. Tribiano, Deputy Commissioner for Operations Support (DCOS)

David P. Alito, Deputy Division Commissioner, Wage & Investment (W&I)

Brenda S. Alwin, Director Operations, Information Technology (IT)

Sergio E. Arellano, Director, International Business Compliance, Large Business &International (LB&I)

Thomas A. Brandt, Chief Risk Officer and Senior Advisor to the Commissioner, Office of the Commissioner (COMM)

Carol A. Campbell, Director, Return Preparer Office, Deputy Commissioner for Services and Enforcement (DCSE)

Robin L. Canady, Chief Financial Officer (CFO)

Daniel B. Chaddock, Associate Chief Information Officer (CIO), Enterprise Services, Information Technology (IT)

Robert S. Choi, Director, Employee Plans, Tax Exempt & Government Entities (TEGE)

Cheryl P. Claybough, Industry Director, Communications, Technology and Media, Large Business & International (LB&I)

James P. Clifford, Director, Accounts Management, Wage & Investment (W&I)

Kenneth C. Corbin, Director, Return Integrity and Compliance Services, Wage & Investment (W&I)

Nanette M. Downing, Assistant Deputy Commissioner, Government Entities/Shared Services, Tax Exempt & Government Entities (TEGE)

Alain Dubois, Deputy Director, Research, Analysis & Statistics, Office of the Commissioner (COMM)

Nicole M. Elliott, Senior Director for Operations, Affordable Care Act, Office of the Commissioner (COMM)

John D. Fort, Deputy Chief, Criminal Investigations (CI)

Shelley M. Foster, Director, Examination Field, Small Business/Self-Employed (SB/SE)

Karen L. Freeman, Associate CIO, Enterprise Operations, Information Technology (IT)

Julieta Garcia, Director, Customer Assistance, Relationships and Education, Wage & Investment (W&I)

Silvana G. Garza, Deputy CIO for Operations, Information Technology (IT)

Linda K. Gilpin, Director, Submission Processing, Information Technology (IT)

Rena C. Girinakis, Deputy National Taxpayer Advocate, Taxpayer Advocate Service (TAS)

Dietra D. Grant, Director, Stakeholder Partnership, Education and Communication, Wage & Investment (W&I)

Susan B. Greer, Acting Executive Director, Office of Equity, Diversity and Inclusion, Office of the Commissioner (COMM)

Darren J. Guillot, Director, Collection—Field, Small Business/Self-Employed (SB/SE)

Daniel S. Hamilton, Director Enterprise Systems Testing, Information Technology (IT)

Donna C. Hansberry, Deputy Division Commissioner, Tax Exempt & Government Entities (TEGE)

Nancy E. Hauth, Director, Examination Headquarters, Small Business/Self-Employed (SB/SE)

Mary R. Hernandez, Deputy Associate CIO, Enterprise Operations, Information Technology (IT)

Shenita L. Hicks, Director, Examination, Small Business/Self-Employed (SB/SE)

Debra S. Holland, Commissioner, Wage & Investment (W&I)

David W. Horton, Acting Deputy Commissioner (International), Large Business & International (LB&I)

Mary J. Howard, Director, Privacy, Governmental Liaison and Disclosure (PGLD)

Cecil T. Hua, Director, Enterprise Technology Implementation, Information Technology (IT)

Robert L. Hunt, Director, Operations Support, Small Business/Self-Employed (SB/SE)

Sharon C. James, Associate CIO, Cybersecurity, Information Technology (IT)

Robin DelRey Jenkins, Director, Collection—Campus, Small Business/Self-Employed (SB/SE)

Gregory E. Kane, Deputy Chief Financial Officer, Chief Financial Officer (CFO)

Thomas J. Kelly, Director of Field Operations—Northern Area, Criminal Investigation (CI)

Donna J. Kramer, Director, Field Assistance, Wage & Investment (W&I)

Susan L. Latham, Director, Shared Support, Large Business & International (LB&I)

Robert M. Leahy Jr., Associate CIO, Strategy and Planning, Information Technology (IT)

Ronald J. Leidner Jr., Director, Compliance, Information Technology (IT)

Terry Lemons, Chief, Communications & Liaison (C&L)

Sunita B. Lough, Commissioner, Tax Exempt & Government Entities (TEGE)

Deborah Lucas-Trumbull, Director, Demand Management and Project Governance, Information Technology (IT)

William H. Maglin II, Associate CFO for Financial Management, Chief Financial Officer (CFO)

Paul J. Mamo, Director, Submission Processing, Wage & Investment (W&I)

Lee D. Martin, Director, Deputy Director, Office of Professional Responsibility, Deputy Commissioner for Services and Enforcement (DCSE)

Thomas D. Mathews, Director, Collection Headquarters, Small Business/Self-Employed (SB/SE)

Rajive K. Mathur, Director, Online Services, Deputy Commissioner for Services and Enforcement (DCSE)

Ivy S. McChesney, Director, Customer Accounts Services, Wage & Investment (W&I)

Kevin Q. McIver, Director, Facilities Management and Security Awareness, Agency-Wide Shared Services (AWSS)

Tina D. Meaux, Director, Pre-Filing and Technical Guidance, Large Business & International (LB&I)

Terence V. Milholland, Chief Technology Officer/Chief Information Officer, Information Technology (IT)

Mary Beth Murphy, Deputy Commissioner, Small Business/Self-Employed (SB/SE)

Douglas W. O'Donnell, Commissioner, Large Business & International (LB&I)

Verlinda F. Paul, Director, Office of Program Coordination and Integration, Wage & Investment (W&I)

Kimberly A. Petty, Associate CIO, Applications Development, Information Technology (IT)

Crystal K. Philcox, Chief of Staff, Office of the Commissioner (COMM)

Scott B. Prentky, Director Collection, Small Business/Self-Employed (SB/SE)

Robert A. Ragano, Director, Corporate Data, Information Technology (IT)

Daniel T. Riordan, IRS Human Capital Officer, Human Capital Office (HCO)

Tamera L. Ripperda, Director, Exempt Organizations, Tax Exempt & Government Entities (TEGE)

Kathy J. Robbins, Industry Director, Natural Resources and Construction, Large Business & International (LB&I)

Karen M. Schiller, Commissioner, Small Business/Self-Employed (SB/SE)

Rene S. Schwartzman, Business Modernization Executive, Wage & Investment (W&I)

Rosemary Sereti, Industry Director, Financial Services, Large Business & International (LB&I)

Verline A. Shepherd, Associate CIO for User and Network Services, Information Technology (IT)

Nancy A. Sieger, Deputy Associate CIO, Applications Development, Information Technology (IT)

Sudhanshu K. Sinha, Director, Enterprise Architecture, Information Technology (IT)

Marla L. Somerville, Associate CIO, Enterprise Information Technology Program Management Office, Information Technology (IT)

Carolyn A. Tavenner, Director, Affordable Care Act, Affordable Care Act Office (ACA)

Kathryn D. Vaughan, Director, Examination—Campus, Small Business/Self-Employed (SB/SE)

Peter C. Wade, Director, Technology Solutions, Small Business/Self-Employed (SB/SE)

Kathleen E. Walters, Deputy IRS Human Capital Officer, Human Capital Office (HCO)

Richard Weber, Chief, Criminal Investigation (CI)

Stephen A. Whitlock, Director, Whistleblower Office, Deputy Commissioner for Services and Enforcement (DCSE)

Kirsten B. Wielobob, Chief, Appeals (AP)

Joseph L. Wilson, Project Director ACA Project Office (ACA), Small Business/Self-Employed (SB/SE)

Johnny E. Witt, Deputy Director, Affordable Care Act Office (ACA)

This document does not meet the Treasury's criteria for significant regulations.

John M. Dalrymple,
Deputy Commissioner for Services and Enforcement, Internal Revenue Service.

[FR Doc. 2015-22577 Filed 9-4-15; 8:45 am]

BILLING CODE 4830-01-P